DEPARTMENT OF DEFENSE

Department of the Army

Availability of U.S. Patent and U.S. Patent Applications for Non-Exclusive, Exclusive, or Partially Exclusive Licensing

AGENCY: Department of the Army, DoD.

ACTION: Notice of availability.

SUMMARY: In accordance with 35 U.S.C. 209 and 37 CFR part 404 announcement is made of the availability for licensing of the U.S. Patent Applications and U.S. Patent for non-exclusive, exclusive, or partially exclusive licensing listed under SUPPLEMENTARY INFORMATION. The invention listed has been assigned to the United States Government as represented by the Secretary of the Army, Washington, DC.

FOR FURTHER INFORMATION CONTACT: Mr. John Biffoni, Intellectual Property attorney, U.S. Army Research, Development, and Engineering Command, Attn: AMSRD-CC (Bldg. E4435), Aberdeen Proving Ground, MD 21010-5424, phone: (410) 436-1158: fax: 410-436-2534 or e-mail: U.John.Biffoni@us.army.mil.

SUPPLEMENTARY INFORMATION: 1. Title: “Collapsing and Telescoping Baffles for Stirred Vessels.”

Description: The present invention relates to the field of baffles for use in stirred vessels, such as reaction calorimeters. Specifically, the invention is a set of removable baffles, forming a system which need not be manufactured with the vessel itself. Due to its construction, the baffle system of this invention is removable and replaceable.

Patent Number: 6,769,800.

Issue Date: August 3, 2004.

Brenda S. Bowen,
Army Federal Register Liaison Officer.

[FR Doc. 04-26804 Filed 12-6-04; 8:45 am]

BILLING CODE 3710-08-M